DEPARTMENT OF HEALTH AND HUMAN SERVICES

Food and Drug Administration

[Docket No. FDA-2015-D-2537]

Request for Quality Metrics; Notice of Draft Guidance Availability and Public Meeting; Request for Comments; Correction

AGENCY: Food and Drug Administration, HHS.

ACTION: Notice; correction.

SUMMARY: The Food and Drug Administration (FDA) is correcting a notice that appeared in the Federal Register of July 28, 2015 (80 FR 44973). The document published with an incorrect docket number. This document corrects that error.

FOR FURTHER INFORMATION CONTACT: Lisa Granger, Office of Policy, Planning, Legislation, and Analysis, Food and Drug Administration, 10903 New Hampshire Ave., Bldg. 32, Rm. 3330, Silver Spring, MD 20993-0002, 301-796-9115.

SUPPLEMENTARY INFORMATION: In FR Doc. 2015-18448, appearing on page 44973, in the Federal Register of Tuesday, July 28, 2015, the following correction is made:

On page 44973, in the first column, in the headings section of the document, “[Docket No. FDA-2014-D-2537]” is corrected to read “FDA-2015-D-2537”.

Dated: August 3, 2015.
Leslie Kux,
Associate Commissioner for Policy.

[FR Doc. 2015-19487 Filed 8-6-15; 8:45 am]

BILLING CODE 4164-01-P